DEPARTMENT OF HEALTH AND HUMAN SERVICES

Administration on Aging

Purpose of Notice: Availability of Funding Opportunity Announcement

Funding Opportunity Title/Program Name: Aging and Disability Resource Center Initiative: Competitive Supplemental for FY2004 Grantees.

Announcement Type: Supplemental.

Funding Opportunity Number: HHS-2006-AoA-DR-0610.

Statutory Authority: The Older Americans Act, Public Law 106-501.

Catalog of Federal Domestic Assistance (CFDA) Number: 93.048, Title IV and Title II, Discretionary Projects.

Dates: The deadline date for the submission of applications is July 21, 2006.

I. Funding Opportunity Description

In FY 2003, the Administration on Aging (AoA) and the Centers for Medicare & Medicaid Services (CMS) formed a historic partnership to launch the Aging and Disability Resource Center (ADRC) demonstration grant initiative. The goal of the ADRC program is to empower individuals to make informed choices and to streamline access to long term support services. AoA and CMS share a vision to have Resource Centers in every community serving as highly visible and trusted places where people of all ages can turn for information on the full range of long term support options and a single point of entry to public long term support programs and benefits. ADRCs are a resource for both public and private-pay individuals. They serve older adults, younger individuals with disabilities, family caregivers, as well as persons planning for future long term support needs. ADRCs are also a resource for health and long term support professionals and others who provide services to older adults and to people with disabilities. Since FY 2003, 43 states have received three year grants from AoA and CMS to design and implement ADRC demonstrations serving the elderly and at least one other target population of adults with disabilities in at least one community. An ADRC Program Announcement published in FY 2003 resulted in the funding of twelve states that year with an additional twelve states funded to develop ADRC programs in FY 2004. Nineteen additional states were funded to develop ADRC programs based on a Program Announcement published in FY 2005. To view the Program Announcements published in FY 2003 and FY 2005 go to http://www.aoa.gov/prof/aging_dis/background.asp. For more information on the 43 funded ADRC projects go to http://www.adrc-tae.org.

This announcement seeks proposals for competitive supplemental grants to assist states funded to develop ADRCs in FY2004 to expand their existing Resource Center programs. Building on current efforts, states will be able to advance the ADRC project through one or more of the following ways:

• Expansion of the ADRC to additional communities;

• Enhancement of key ADRC partnerships.

A detailed description of the funding opportunity may be found at http://www.aoa.gov/doingbus/fundopp/fundopp.asp.

II. Award Information

1. Funding Instrument Type

These additional funds will be issued as part of the 2004 ADRC existing cooperative agreements. AoA, in cooperation with CMS, anticipates having substantial involvement with the recipients during performance of funded activities. This involvement may include collaboration, participation, or intervention in the funded activities. AoA, in cooperation with CMS, will also be involved in the development and implementation of the funded projects by way of conducting a review of the applications and providing technical assistance, training, guidance, and oversight throughout the two-year project period. Grantees will be expected to keep in contact with their Federal project officer on a regular basis. Grantees will also be expected to share all significant products that result from their projects with AoA.

2. Anticipated Total Priority Area Funding Per Budget Period

The total amount of Federal funds available for 2004 ADRC grantees through this funding opportunity is $1 million. AoA anticipates funding 12 projects at $85,000 each for a two-year project period.

All supplemental funds will be awarded by September 30, 2006.

III. Eligibility Criteria and Other Requirements

1. Eligible Applicants

Only states that received an AoA and CMS Aging and Disability Resource Center Grant (ADRC) in FY 2004 are eligible to apply. The FY 2004 ADRC grantees states include Alaska, Arkansas, California, Florida, Georgia, Illinois, Indiana, Iowa, New Mexico, North Carolina, Northern Marianas, and Wisconsin.

2. Cost Sharing or Matching

Grantees are required to make a non-financial or cash recipient contribution (match) of a minimum of five percent (5%) of the total grant award.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

1. Address To Request Application Package

Application materials can be obtained from http://www.grants.gov or http://www.aoa.gov/doingbus/fundopp/fundopp.asp.

Application materials are also available by writing to: U.S. Department of Health and Human Services, Administration on Aging, John Murphy, Center for Planning and Policy Development, Washington, DC 20201, Or by calling: 202-357-0136, Or e-mailing: john.murphy@aoa.hhs.gov.

2. Address for Application Submission

Electronic submissions must be sent to: http://www.grants.gov. Applicants unable to submit their application via http://www.grants.gov may request permission to submit a hard copy from the AoA Project Officer: Joseph Lugo, joseph.lugo@aoa.hhs.gov, (202) 357-3417.

If you mail or hand deliver your application, you must submit one original application and two copies, plus a completed application checklist to AoA. The application deadline for applications sent by U.S. Postal Service must be postmarked by midnight July 21, 2006 or hand-delivered by 5 p.m. Eastern Time on July 21, 2006.

Submissions using the regular, U.S. Postal Service must be addressed to: Department of Health and Human Services, Administration on Aging, Grants Management Division, Washington, DC 20201, Attention: Stephen Daniels.

Submissions by courier, overnight delivery, delivered in person, etc. should be addressed to: Department of Health and Human Services, Administration on Aging, Grants Management Division, One Massachusetts Avenue, NW., Room 4604, Washington, DC 20001, Attention: Stephen Daniels.

3. Submission Dates and Times

To receive consideration, applications must be received by the deadline listed in the DATES section of this Notice.

V. Responsiveness Criteria

Each application submitted will be screened to determine whether it was received by the closing date and time. Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria:

• Accomplishments and Problem Statement—Weight: 30 points.

• Approach, Work Plan and Activities—Weight: 40 points.

• Project Outcomes and Evaluation—Weight: 15 points.

• Level of Effort (Organization and Management; Budget and Resources)—Weight: 15 points.

VII. Agency Contacts

Direct inquiries regarding programmatic issues should be sent to: U.S. Department of Health and Human Services, Administration on Aging, Center for Planning and Policy Development, Attention: Joseph Lugo, Washington, DC 20201. Telephone: (202) 357-3417.

Dated: June 14, 2006.
John Wren,
Deputy Assistant Secretary for Management.

[FR Doc. E6-9591 Filed 6-16-06; 8:45 am]

BILLING CODE 4154-01-P